DEPARTMENT OF TRANSPORTATION

Office of the Secretary

Aviation Proceedings, Agreements Filed the Week Ending October 28, 2005

The following Agreements were filed with the Department of Transportation under the sections 412 and 414 of the Federal Aviation Act, as amended (49 U.S.C. 1382 and 1384) and procedures governing proceedings to enforce these provisions. Answers may be filed within 21 days after the filing of the application.

Docket Number: OST-2005-22825.

Date Filed: October 24, 2005.

Parties: Members of the International Air Transport Association.

Subject: TC23/TC123 Europe-South West Pacific. Geneva & Teleconference, 15-16 September 2005. (Memo 0099).

Intended effective date: 1 December 2005.

Docket Number: OST-2005-22848.

Date Filed: October 27, 2005.

Parties: Members of the International Air Transport Association.

Subject: TC23 Mail Vote 462. Between Europe and South Asian Subcontinent. Geneva & Teleconference, 15-16 September 2005. (Memo 0141).

Intended effective date: 1 December 2005.

Renee V. Wright,
Program Manager, Docket Operations, Federal Register Liaison.

[FR Doc. 05-22354 Filed 11-8-05; 8:45 am]

BILLING CODE 4910-62-P